DEPARTMENT OF ENERGY

Federal Energy Regulatory Commission

Combined Notice of Filings #2

Take notice that the Commission received the following electric rate filings:

Docket Numbers: ER15-1536-002.

Applicants: Midcontinent Independent System Operator, Inc.

Description: Compliance filing: 2016-09-28_White Pine 1 Compliance re Resettlement Costs to be effective N/A.

Filed Date: 9/28/16.

Accession Number: 20160928-5033.

Comments Due: 5 p.m. ET 10/19/16.

Docket Numbers: ER16-2360-001.

Applicants: Great Western Wind Energy, LLC.

Description: Notice of Non-Material Change in Status of Great Western Wind Energy, LLC.

Filed Date: 9/28/16.

Accession Number: 20160928-5195.

Comments Due: 5 p.m. ET 10/19/16.

Docket Numbers: ER16-2691-000.

Applicants: Southern California Edison Company.

Description: § 205(d) Rate Filing: DSA Mirasol Development LLC Mirasol Pomona 1 Project to be effective 1/5/2017.

Filed Date: 9/29/16.

Accession Number: 20160929-5066.

Comments Due: 5 p.m. ET 10/20/16.

Docket Numbers: ER16-2692-000.

Applicants: Avista Corporation.

Description: Compliance filing: Avista Corp OATT Order 827 and 828 Compliance Filing to be effective 10/14/2016.

Filed Date: 9/29/16.

Accession Number: 20160929-5081.

Comments Due: 5 p.m. ET 10/20/16.

Docket Numbers: ER16-2693-000.

Applicants: Northern States Power Company, a Minnesota.

Description: § 205(d) Rate Filing: 2016-9-29 CAPX Brookings CMA-536-0.2.0—Filing to be effective 1/1/2016.

Filed Date: 9/29/16.

Accession Number: 20160929-5082.

Comments Due: 5 p.m. ET 10/20/16.

Docket Numbers: ER16-2694-000.

Applicants: Orange and Rockland Utilities, Inc.

Description: Compliance filing: Docket No. ER16-896 to be effective 9/29/2016.

Filed Date: 9/29/16.

Accession Number: 20160929-5084.

Comments Due: 5 p.m. ET 10/20/16.

Docket Numbers: ER16-2695-000.

Applicants: ISO New England Inc., New England Power Pool Participants Committee, Eversource Energy Service Company (as agent).

Description: Compliance filing: Amendments to ISO-NE Tariff in Compliance with Order Nos. 827 and 828 to be effective 10/5/2016.

Filed Date: 9/29/16.

Accession Number: 20160929-5085.

Comments Due: 5 p.m. ET 10/20/16.

Docket Numbers: ER16-2696-000.

Applicants: Louisville Gas and Electric Company.

Description: Compliance filing: Order 827 and 828 Compliance Revised Att M and N to be effective 10/14/2016.

Filed Date: 9/29/16.

Accession Number: 20160929-5089.

Comments Due: 5 p.m. ET 10/20/16.

Docket Numbers: ER16-2697-000.

Applicants: Solea PJM, LLC.

Description: Tariff Cancellation: Cancellation of MBR Tariff to be effective 9/30/2016.

Filed Date: 9/29/16.

Accession Number: 20160929-5090.

Comments Due: 5 p.m. ET 10/20/16.

Docket Numbers: ER16-2698-000.

Applicants: PJM Interconnection, L.L.C.

Description: § 205(d) Rate Filing: Amendment to Service Agreement Nos. 3352 and 3153, Queue No. W1-029 to be effective 11/4/2011.

Filed Date: 9/29/16.

Accession Number: 20160929-5098.

Comments Due: 5 p.m. ET 10/20/16.

Docket Numbers: ER16-2699-000.

Applicants: PJM Interconnection, L.L.C.

Description: § 205(d) Rate Filing: Service Agreement No. 4546, Queue Position AB1-115 to be effective 8/30/2016.

Filed Date: 9/29/16.

Accession Number: 20160929-5139.

Comments Due: 5 p.m. ET 10/20/16.

Docket Numbers: ER16-2700-000.

Applicants: The Connecticut Light and Power Company.

Description: § 205(d) Rate Filing: Beacon Falls Energy Park, LLC Original Service Agreement No. IA-ES-36 to be effective 9/29/2016.

Filed Date: 9/29/16.

Accession Number: 20160929-5148.

Comments Due: 5 p.m. ET 10/20/16.

Docket Numbers: ER16-2701-000.

Applicants: California Independent System Operator Corporation.

Description: § 205(d) Rate Filing: 2016-09-26 Appendix C Locational Marginal Price Overlap to be effective 10/1/2016.

Filed Date: 9/29/16.

Accession Number: 20160929-5162.

Comments Due: 5 p.m. ET 10/20/16.

Docket Numbers: ER16-2702-000.

Applicants: Entergy Louisiana, LLC.

Description: § 205(d) Rate Filing: ELL-SRMPA 11th Extension of Interim Agreement to be effective 10/1/2016.

Filed Date: 9/29/16.

Accession Number: 20160929-5172.

Comments Due: 5 p.m. ET 10/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2016.
Nathaniel J. Davis, Sr.,
Deputy Secretary.

[FR Doc. 2016-24107 Filed 10-4-16; 8:45 am]

BILLING CODE 6717-01-P